DEPARTMENT OF TRANSPORTATION

Surface Transportation Board

[Docket No. FD 35507]

North Central Iowa Rail Corridor, LLC—Acquisition Exemption—Union Pacific Railroad Company

North Central Iowa Rail Corridor, LLC (NCIRC), a noncarrier, has filed a verified notice of exemption under 49 CFR 1150.31 to acquire approximately 27.83 miles of rail line owned by Union Pacific Railroad Company (UP), referred to as the Forest City Line. The Forest City Line extends between milepost 48.12 at Belmond, Iowa, and milepost 79.95 at Forest City, Iowa, and includes 600 feet of connecting track at Garner, Iowa, in Hancock, Winnebago, and Wright Counties, Iowa.

This transaction is related to 2 other filed verified notices of exemption, filed in: (1) Docket No. FD 35508, Iowa Northern Railway Company—Operation Exemption—North Central Iowa Rail Corridor, LLC, in which Iowa Northern Railway Company (IANR) seeks to operate the Forest City Line in accordance with a rail service and lease agreement with NCIRC; and (2) Docket No. FD 35511, Iowa Northern Railway Company—Trackage Rights Exemption—Dakota, Minnesota & Eastern Railroad Corporation d/b/a Canadian Pacific, in which IANR seeks authority to exercise certain specified overhead trackage rights from Dakota, Minnesota & Eastern Railroad Corporation d/b/a Canadian Pacific.

The transaction is expected to be consummated on or after June 10, 2011, which will be after the June 9, 2011 effective date of the exemption (30 days after the exemption was filed).

NCIRC certifies that its projected annual revenues as a result of this transaction will not exceed those that would qualify it as a Class III rail carrier and further certifies that its projected annual revenue will not exceed $5 million.

If the verified notice contains false or misleading information, the exemption is void ab initio. Petitions to revoke the exemption under 49 U.S.C. 10502(d) may be filed at any time. The filing of a petition to revoke will not automatically stay the effectiveness of the exemption. Petitions to stay must be filed no later than June 2, 2011 (at least 7 days before the exemption becomes effective).

An original and 10 copies of all pleadings, referring to Docket No. FD 35507, must be filed with the Surface Transportation Board, 395 E Street, SW., Washington, DC 20423-0001. In addition, a copy of each pleading must be served on T. Scott Bannister, Iowa Northern Railway Company, 305 Second Street, SE., Suite 400, Cedar Rapids, IA 52401.

Board decisions and notices are available on our Web site at http://www.stb.dot.gov.

Decided: May 23, 2011.
By the Board, Rachel D. Campbell, Director, Office of Proceedings.
Andrea Pope-Matheson,
Clearance Clerk.

[FR Doc. 2011-13092 Filed 5-26-11; 8:45 am]

BILLING CODE 4915-01-P